DEPARTMENT OF HOMELAND SECURITY

Coast Guard

33 CFR Part 100

[Docket Number USCG-2025-0315]

RIN 1625-AA08

Special Local Regulation; St. Mary's River, St. George's Creek, Piney Point, MD

AGENCY: Coast Guard, DHS.

ACTION: Temporary final rule.

SUMMARY: The Coast Guard is establishing a temporary special local regulation for certain waters of the St. Mary's River. This action is necessary to provide for the safety of life on these navigable waters, located at Piney Point, MD, during a two-day, high-speed, power boat demonstration event on June 7, 2025, and June 8, 2025. This rule prohibits persons and vessels from being in the regulated area unless authorized by the Captain of the Port, Maryland-National Capital Region, or the Coast Guard Event Patrol Commander.

DATES: This rule is in effect from 7:30 a.m. on June 07, 2025, through 5 p.m. on June 08, 2025. It will be enforced, from 7:30 a.m. to 5 p.m. on June 07, 2025, and from 7:30 a.m. to 5 p.m. on June 08, 2025.

FOR FURTHER INFORMATION CONTACT: If you have questions about this rulemaking, call or email LCDR Kate Newkirk, Sector Maryland-NCR, Waterways Management Division, U.S. Coast Guard: telephone 410-576-2596, email MDNCRMarineEvents@uscg.mil.

SUPPLEMENTARY INFORMATION:

I. Table of Abbreviations

CFR Code of Federal Regulations

COTP Captain of the Port

DHS Department of Homeland Security

FR Federal Register

PATCOM Coast Guard Patrol Commander

NPRM Notice of proposed rulemaking

§ Section

SLR Special local regulation

U.S.C. United States Code

II. Background Information and Regulatory History

The Coast Guard has received a request, under 33 CFR 100.15, for a Marine Event Permit to host a high-speed, power boat demonstration event in Piney Point, MD on June 07, 2025, and June 08, 2025, from 8 a.m. to 4 p.m. on both days. As “an organized water event of limited duration which is conducted according to a prearranged schedule,” the scheduled event is a “regatta or marine parade,” as defined at 33 CFR 100.05(a). The Captain of the Port (COTP), after approving plans for the holding of a regatta or marine parade within his or her district or zone, is authorized to promulgate such special local regulations (SLRs) as he or she deems necessary to ensure safety of life on the navigable waters immediately prior to, during, and immediately after the approved regatta or marine parade. 33 CFR 100.35.

The Coast Guard is issuing this temporary final rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because at the current time it is impracticable to publish an NPRM, consider comments received, and publish a final rule by June 07, 2025, when the rule must be in place to serve its intended purpose.

Also, under 5 U.S.C. 553(d)(3), the Coast Guard finds that good cause exists for making this rule effective less than 30 days after publication in the Federal Register because it is impracticable to be able to get the rule published by May 7, 2025, thirty days before it must be in effect to serve its intended purpose.

III. Legal Authority and Need for the Rule

Hazards associated with the vintage and historic racing powerboat demonstrations will be a safety concern for anyone intending to participate in this event and for vessels that operate within waters of the St. Mary's River which would be covered by this rule. If normal vessel traffic were allowed to interfere with the event, potential hazards would include the risk of injury or death resulting from near or actual contact among participant vessels, spectator vessels, or non-participant waterway users. The purpose of this rulemaking is to ensure the safety of event participants, non-participants, and transiting vessels before, during, and after the scheduled event.

The Coast Guard is promulgating this rule under statutory authority in 46 U.S.C. 70041.

IV. Discussion of the Rule

The COTP is establishing a special local regulation which will be in effect from 7:30 a.m. on June 07, 2025, through 5 p.m. on June 08, 2025. The regulation will only be enforced, however, from 7:30 a.m. to 5 p.m. on June 07, 2025, and from 7:30 a.m. to 5 p.m. on June 08, 2025. The regulated area covers all navigable waters of St. George Creek. This area starts at Cedar Point, follows the western shoreline south to Coade Bar, then cuts southeast across the creek to Dodson Point. From there, it continues north along the eastern shoreline, including the area near the St. George Island Bridge (SR-249), all the way up to Long Bar at the entrance to St. George Harbor. The boundary then wraps northeast across the creek back to Cedar Point, terminating at the point of origin

The regulated area is approximately 1,750 yards in length and 940 yards in width. The duration of the special local regulation and size of the regulated area is intended to ensure the safety of life on these navigable waters before, during, and after the high-speed power boat event scheduled to take place from 7:30 a.m. to 5 p.m. on June 07, 2025, and from 7:30 a.m. to 5 p.m. on June 08, 2025. No vessel or person will be permitted to enter the safety zone without obtaining permission from the COTP or a designated representative.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action” under section 3(f) of Executive Order 12866. Accordingly, the TFR has not been reviewed by the Office of Management and Budget (OMB).

This regulatory action determination is based on the size and duration of the regulated area, which will impact a small, designated area of St. George Creek for 19 total enforcement hours. This waterway supports mainly recreational vessel traffic with peak vessel traffic occurring during the summer season. Although this regulated area extends across the entire width of the waterway, the rule would allow vessels and persons to seek permission to enter the regulated area if it is safe to do so. The Event PATCOM would allow vessel traffic to transit the eastern portion of the waterway away from the event area when it is safe to do so. Vessels given permission to enter the regulated area must operate at a safe speed that minimizes wake and must not loiter within the navigable channel while within the regulated area. Moreover, the Coast Guard would issue a Broadcast Notice to Mariners via VHF-FM marine channel 16 about the status of the regulated area.

B. Impact on Small Entities

The regulatory flexibility analysis provisions of the Regulatory Flexibility Act of 1980, 5 U.S.C. 601-612, do not apply to rules not subject to notice and comment. As the Coast Guard has, for good cause, waived the notice and comment requirement that would otherwise apply to this rulemaking, the Regulatory Flexibility Act's flexibility analysis provisions do not apply here.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

C. Collection of Information

This rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175 (Consultation and Coordination with Indian Tribal Governments) because it would not have a substantial direct effect on one or more Indian Tribes, on the relationship between the Federal Government and Indian Tribes, or on the distribution of power and responsibilities between the Federal Government and Indian Tribes. If you believe this rule has implications for federalism or Indian Tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the potential effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a determination that this action is one of a category of actions that does not individually or cumulatively have a significant effect on the human environment. This rule involves implementation of regulations within 33 CFR part 100 applicable to organized marine events on the navigable waters of the United States that could negatively impact the safety of waterway users and shore side activities in the event area for 19 total enforcement hours. It is categorically excluded from further review under paragraph L61 of Appendix A, Table 1 of DHS Instruction Manual 023-01-001-01, Rev. 1.

List of Subjects in 33 CFR Part 100

Harbors, Marine safety, Navigation (water), Reporting and recordkeeping requirements, Security measures, Waterways.

For the reasons discussed in the preamble, the Coast Guard is proposing to amend 33 CFR part 100 as follows:

PART 100—SAFETY OF LIFE ON NAVIGABLE WATERS

1. The authority citation for part 100 continues to read as follows:

Authority: 46 U.S.C. 70041; 33 CFR 1.05-1.

2. Add § 100.T599-0315 to read as follows:

§ 100.T599-0315 Southern Maryland Boat Club Piney Point Regatta, St. Mary's River, St. George Creek, Piney Point, MD.

(a) Locations. All coordinates are based on datum NAD 1983.

(1) Regulated area. All navigable waters of St. George Creek, within an area bounded by a line connecting the following points: from the shoreline at Cedar Point at position latitude 38°09′03.4″ N, longitude 076°29′55.7″ W; thence south along the shoreline to Coade Bar at latitude 38°08′22.5″ N, longitude 076°29′19.9″ W; thence southeast across St. George Creek to Dodson Point at latitude 38°08′03.8″ N, longitude 076°29′44.6″ W; thence north along the shoreline and the eastern extent of the St. George Island (SR-249) Bridge to Long Bar (at the entrance to St. George Harbor) at latitude 38°08′50.6″ N, longitude 076°30′13.0″ W; thence northeast across St. George Creek to and terminating at the point of origin. The race area, buffer area, and spectator area are within the regulated area.

(2) Race area. The race area is a polygon in shape measuring approximately 700 yards in length by 240 yards in width. The area is bounded by a line commencing near Hodgson Point at position latitude 38°08′39.80″ N, longitude 076°30′3.13″ W, thence southeast to latitude 38°08′21.95″ N, longitude 076°29′49.31″ W; thence southwest to latitude 38°08′18.20″ N, longitude 076°29′56.98″ W, thence northwest to latitude 38°08′36.10″ N, longitude 076°30′10.84″ W; thence northeast to and terminating at the point of origin.

(3) Buffer area. The buffer area is a polygon in shape measuring approximately 90 yards in all directions surrounding the entire race area described in the preceding paragraph of this section. The area is bounded by a line commencing near Hodgson Point at position latitude 38°08′43.58″ N, longitude 076°30′02.12″ W; thence southeast to latitude 38°08′21.12″ N, longitude 076°29′44.81″ W, thence southwest to latitude 38°08′14.68″ N, longitude 076°29′58.24″ W; thence northwest to latitude 38°08′35.95″ N, longitude 076°30′14.33″ W, thence northeast to and terminating at the point of origin.

(4) Spectator area. The designated spectator area is a polygon in shape with its length measuring approximately 700 yards and its width measuring approximately 300 yards at its northern portion and 150 yards at its southern portion. The area is bounded by a line commencing at position latitude 38°08′46.86″ N, longitude 076°29′51.07″ W; thence southeast to latitude 38°08′38.11″ N, longitude 076°29′44.27″ W; thence south to latitude 38°08′26.81″ N, longitude 076°29′43.01″ W; thence southwest to latitude 38°08′23.50″ N, longitude 076°29′46.50″ W, thence northwest to latitude 38°08′41.28″ N, longitude 076°30′00.18″ W, thence northeast to and terminating at the point of origin.

(b) Definitions. As used in this section—

Buffer area is a neutral area that surrounds the perimeter of the race area within the regulated area described by this section. The purpose of a buffer area is to minimize potential collision conflicts with marine event participants or high-speed powerboats and spectator vessels or nearby transiting vessels. This area provides separation between a race area and a specified Spectator Area or other vessels that are operating in the vicinity of the regulated area established by the special local regulations in this section.

Captain of the Port (COTP) Maryland-National Capital Region means the Commander, U.S. Coast Guard Sector Maryland-National Capital Region or any coast Guard commissioned, warrant or petty officer who has been authorized by the COTP to act on his behalf.

Event Patrol Commander or Event PATCOM means a commissioned, warrant, or petty officer of the U.S. Coast Guard who has been designated by the Commander, Coast Guard Sector Maryland-National Capital Region.

Official patrol means any vessel assigned or approved by Commander, Coast Guard Sector Maryland-National Capital Region with a commissioned, warrant, or petty officer on board and displaying a Coast Guard ensign.

Participant means all persons and vessels registered with the event sponsor as participating in the “Southern Maryland Boat Club Piney Point Rumble on the River Regatta” event or otherwise designated by the event sponsor as having a function tied to the event.

Race area is an area described by a line bound by coordinates provided in latitude and longitude that outlines the boundary of a race area within the regulated area defined by this section.

Spectator means a person or vessel not registered with the event sponsor as participants or assigned as official patrols.

Spectator area is an area described by a line bound by coordinates provided in latitude and longitude that outlines the boundary of a spectator area within the regulated area defined by this part.

(c) Special local regulations. (1) The COTP Maryland-National Capital Region or Event PATCOM may forbid and control the movement of all vessels and persons, including event participants, in the regulated area described in paragraph (a)(1) of this section when hailed or signaled by an official patrol, a vessel or person in the regulated area shall immediately comply with the directions given by the patrol. Failure to do so may result in the Coast Guard expelling the person or vessel from the area, issuing a citation for failure to comply, or both. The COTP Maryland-National Capital Region or Event PATCOM may terminate the event, or a participant's operations at any time the COTP Maryland-National Capital Region or Event PATCOM believes it necessary to do so for the protection of life or property.

(2) Except for participants and vessels already at berth, a person or vessel within the regulated area at the start of enforcement of this section must immediately depart the regulated area.

(3) A spectator must contact the Event PATCOM to request permission to either enter or pass through the regulated area. The Event PATCOM, and official patrol vessels enforcing this regulated area, can be contacted on marine band radio VHF-FM channel 16 (156.8 MHz) and channels 22A (157.1 MHz). If permission is granted, the spectator must enter the designated Spectator Area or pass directly through the regulated area as instructed by Event PATCOM. A vessel within the regulated area must operate at safe speed that minimizes wake. A spectator vessel must not loiter within the navigable channel while within the regulate area.

(4) Only participant vessels and official patrol vessels are allowed to enter and remain within the race area.

(5) Only participant vessels and official patrol vessels are allowed to enter and transit directly through the buffer area, to arrive at or depart from the race area.

(6) A person or vessel that desires to transit, moor, or anchor within the regulated area must obtain authorization from the COTP Maryland-National Capital Region or Event PATCOM before doing so. A person or vessel seeking such permission can contact the COTP Maryland-National Capital Region at telephone number 410-576-2693 or on Marine Band Radio, VHF-FM channel 16 (156.8 MHz) or the Event PATCOM on Marine Band radio, VHF-FM channel 16 (156.8 MHz).

(7) The Coast Guard will publish a notice in the Fifth Coast Guard District Local Notice to Mariners and issue a marine information broadcast on VHF-FM marine band radio announcing specific event dates and times.

(d) Enforcement officials. The Coast Guard may be assisted with marine event patrol and enforcement of the regulated area by other federal, state, and local agencies.

(e) Enforcement periods. This section will be enforced from 7:30 a.m. to 5 p.m. on June 7, 2025, and from 7:30 a.m. to 5 p.m. on June 8, 2025.

Dated: April 25, 2025
Patrick C. Burkett,
Captain, U.S. Coast Guard, Captain of the Port Sector Maryland-National Capital Region.

[FR Doc. 2025-07680 Filed 5-2-25; 8:45 am]

BILLING CODE 9110-04-P